COMMODITY FUTURES TRADING COMMISSION

Notice of Sunshine Act Meetings

TIME AND DATE: 10 a.m., Friday April 6, 2012.

PLACE: 1155 21st St. NW., Washington, DC, 9th Floor Commission Conference Room.

STATUS: Closed.

Matters To Be Considered:

Surveillance and Enforcement Matters. In the event that the times or dates of these or any future meetings change, an announcement of the change, along with the new time and place of the meeting will be posted on the Commission's Web site at http://www.cftc.gov.

CONTACT PERSON FOR MORE INFORMATION: Sauntia S. Warfield, 202-418-5084.

Sauntia S. Warfield,
Assistant Secretary of the Commission.

[FR Doc. 2012-7447 Filed 3-23-12; 4:15 pm]

BILLING CODE 6351-01-P